DEPARTMENT OF ENERGY

Federal Energy Regulatory Commission

Combined Notice of Filings #1

Take notice that the Commission received the following electric rate filings:

Docket Numbers: ER10-2421-001; ER11-2457-001; ER11-2449-002; ER12-75-005; ER12-2252-003; ER12-2251-002; ER12-2253-002; ER12-2250-002; ER11-3069-004; ER11-3141-004; ER11-3098-004; ER11-3545-003; ER12-2010-001; ER12-1769-004; ER14-2245-002.

Applicants: Energy Services Providers, Inc., Massachusetts Gas & Electric, Inc., Connecticut Gas & Electric, Inc., Public Power, LLC, Public Power (PA), LLC, Public Power & Utility of NY, Inc, Public Power & Utility of Maryland, LLC, Everyday Energy, LLC, Everyday Energy NJ, LLC, Viridian Energy, LLC, Viridian Energy NY, LLC, Viridian Energy PA, LLC, Cincinnati Bell Energy LLC, Energy Rewards, LLC, TriEagle Energy, LP.

Description: Notice of Change in Status of the Crius Public Utilities.

Filed Date: 8/14/19.

Accession Number: 20190814-5120.

Comments Due: 5 p.m. ET 9/4/19.

Docket Numbers: ER18-1737-005.

Applicants: Northern Indiana Public Service Company.

Description: Compliance filing: Reactive Supply Service Rate Compliance Filing to be effective 10/1/2018.

Filed Date: 8/15/19.

Accession Number: 20190815-5104.

Comments Due: 5 p.m. ET 9/5/19.

Docket Numbers: ER19-2613-000.

Applicants: Birchwood Power Partners, L.P.

Description: § 205(d) Rate Filing: Reactive Power Rate Schedule to be effective 8/15/2019.

Filed Date: 8/14/19.

Accession Number: 20190814-5106.

Comments Due: 5 p.m. ET 9/4/19.

Docket Numbers: ER19-2614-000.

Applicants: WSPP Inc.

Description: § 205(d) Rate Filing: List of Members Update 2019 to be effective 8/12/2019.

Filed Date: 8/15/19.

Accession Number: 20190815-5015.

Comments Due: 5 p.m. ET 9/5/19.

Docket Numbers: ER19-2615-000.

Applicants: Midcontinent Independent System Operator, Inc.

Description: § 205(d) Rate Filing: 2019-08-15_SA 3340 Iris Solar-Entergy Louisiana GIA (J1184) to be effective 8/1/2019.

Filed Date: 8/15/19.

Accession Number: 20190815-5047.

Comments Due: 5 p.m. ET 9/5/19.

Docket Numbers: ER19-2616-000.

Applicants: ISO New England Inc., New England Power Pool Participants Committee.

Description: § 205(d) Rate Filing: ISO-NE & NEPOOL; JNC Authority to Waive ISO Board Candidate Age Limit to be effective 10/15/2019.

Filed Date: 8/15/19.

Accession Number: 20190815-5052.

Comments Due: 5 p.m. ET 9/5/19.

Docket Numbers: ER19-2617-000.

Applicants: PacifiCorp.

Description: PacifiCorp submits Average System Cost Filing for Sales of Electric Power to the Bonneville Power Administration, FY 2020-2021.

Filed Date: 8/15/19.

Accession Number: 20190815-5107.

Comments Due: 5 p.m. ET 9/5/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 15, 2019.
Nathaniel J. Davis, Sr.,
Deputy Secretary.

[FR Doc. 2019-18004 Filed 8-20-19; 8:45 am]

BILLING CODE 6717-01-P